NATIONAL SCIENCE FOUNDATION

Notice of Intent To Seek Approval To Establish an Information Collection

AGENCY: National Science Foundation.

ACTION: Notice and request for comments.

SUMMARY: The National Science Foundation (NSF) has submitted the following information collection requirement to OMB for review and clearance under the Paperwork Reduction Act of 1995. This is the second notice for public comment. NSF is forwarding the proposed new information collection submission to the Office of Management and Budget (OMB) for clearance simultaneously with the publication of this second notice.

The National Science Foundation (NSF) is announcing plans to request approval for a new information collection. The primary purpose of this data collection is for institutional authorized organizational representatives to inform NSF of any finding/determination regarding the PI or any co-PI that demonstrates a violation of awardee policies or codes of conduct, statutes, regulations, or executive orders relating to sexual harassment, other forms of harassment, or sexual assault; and/or if the PI or any co-PI is placed on administrative leave or if any administrative action has been imposed on the PI or any co-PI by the awardee relating to any finding/determination or an investigation of an alleged violation of awardee policies or codes of conduct, statutes, regulations, or executive orders relating to sexual harassment, other forms of harassment, or sexual assault.

SUPPLEMENTARY INFORMATION: This is the second notice for public comment; the first was published in the Federal Register at 83 FR 9342, and 192 comments were received. The full submission may be found at: http://www.reginfo.gov/public/do/PRAMain.

NSF may not conduct or sponsor a collection of information unless the collection of information displays a currently valid OMB control number and the agency informs potential persons who are to respond to the collection of information that such persons are not required to respond to the collection of information unless it displays a currently valid OMB control number.

Comments: On March 5, 2018, NSF published a request for public comment regarding the agency's proposed implementation of new notification requirements specified in Important Notice No. 144. (83 FR 9342-9343, March 5, 2018). All comments were carefully considered in developing the final version of the term and condition. A table listing the comments and NSF responses is posted on the NSF website at: www.nsf.gov/harassment.

Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Office of Information and Regulatory Affairs of OMB, Attention: Desk Officer for National Science Foundation, 725 17th Street NW, Room 10235, Washington, DC 20503, and to Suzanne H. Plimpton, Reports Clearance Officer, National Science Foundation, 2415 Eisenhower Avenue, Alexandria, VA 22314, or send email to splimpto@nsf.gov. Individuals who use a telecommunications device for the deaf (TDD) may call the Federal Information Relay Service (FIRS) at 1-800-877-8339, which is accessible 24 hours a day, 7 days a week, 365 days a year (including federal holidays).

Comments regarding these information collections are best assured of having their full effect if received within 30 days of this notification. Copies of the submission(s) may be obtained by calling 703-292-7556.

Title of Collection: Notification Requirements Regarding Sexual Harassment, Other Forms of Harassment, or Sexual Assault.

OMB Number: 3145-NEW.

Type of Request: Intent to seek approval for a new information collection.

Proposed Information Collection: The awardee is required to notify NSF of: (1) Any finding/determination regarding the PI or any co-PI that demonstrates a violation of awardee policies or codes of conduct, statutes, regulations, or executive orders relating to sexual harassment, other forms of harassment, or sexual assault; and/or (2) if the PI or any co-PI is placed on administrative leave or if any administrative action has been imposed on the PI or any co-PI by the awardee relating to any finding/determination or an investigation of an alleged violation of awardee policies or codes of conduct, statutes, regulations, or executive orders relating to sexual harassment, other forms of harassment, or sexual assault. Such notification must be submitted by the Authorized Organizational Representative (AOR) or designee to NSF's Office of Diversity and Inclusion at www.nsf.gov/harassment within ten business days from the date of the finding/determination, or the date of the placement of a PI or co-PI by the awardee on administrative leave or the imposition of an administrative action, whichever is sooner. Each notification must include the following information:

• NSF Award Number;

• Name of PI or co-PI being reported;

• Type of Notification: Select one of the following:

○ Finding/Determination that the reported individual has been found to have violated awardee policies or codes of conduct, statutes, regulations, or executive orders relating to sexual harassment, other forms of harassment, or sexual assault; or

○ Placement by the awardee of the reported individual on administrative leave or the imposition of any administrative action on the PI or any co-PI by the awardee relating to any finding/determination or an investigation of an alleged violation of awardee policies or codes of conduct, statutes, regulations, or executive orders relating to sexual harassment, other forms of harassment, or sexual assault.

• Description of the finding/determination and action(s) taken, if any; and

• Reason(s) for, and conditions of, placement of the PI or any co-PI on administrative leave or imposition of administrative action.

Use of the Information: NSF will use the information in consultation with the awardee to determine whether the NSF award activities can be carried out as proposed and in a manner that protects the safety and security of award personnel.

Burden on the Public: It has been estimated that respondents will expend an average of one hour to complete the form.

Dated: September 20, 2018.
Suzanne H. Plimpton,
Reports Clearance Officer, National Science Foundation.

[FR Doc. 2018-20836 Filed 9-24-18; 8:45 am]

BILLING CODE 7555-01-P